DEPARTMENT OF HEALTH AND HUMAN SERVICES

Health Resources and Services Administration

Notice of Availability of Draft Health Center Program Scope Policy Manual Guidance

AGENCY: Health Resources and Services Administration (HRSA), Department of Health and Human Services (HHS).

ACTION: Request for public comment.

SUMMARY: HRSA requests public comments on the Draft Health Center Program Scope of Project Manual (draft Scope Policy Manual). The draft Scope Policy Manual provides updated policy guidance on what constitutes the Health Center Program scope of project under the Public Health Service Act (PHS Act).

DATES: Submit comments no later than February 7, 2025.

ADDRESSES: Electronic comments should be submitted through the HRSA Bureau of Primary Health Care Contact Form (https://hrsa.my.site.com/support/s/), by selecting “Comment on Draft Policy” under the “Policy” section.

FOR FURTHER INFORMATION CONTACT: Jennifer Joseph, Office of Policy and Program Development Director, Bureau of Primary Health Care, HRSA, at jjoseph@hrsa.gov and 301-594-4300.

SUPPLEMENTARY INFORMATION: The draft Scope Policy Manual (https://bphc.hrsa.gov/sites/default/files/bphc/compliance/draft-health-center-program-scope-project-manual) updates Health Center Program scope of project policy guidance for all health centers that apply for and receive federal award (https://bphc.hrsa.gov/compliance/compliance-manual/glossary#federal-award) funds under the Health Center Program subrecipient organization (sections 1861(aa)(4)(A)(ii) and 1905(l)(2)(B)(ii) of the Social Security Act; https://bphc.hrsa.gov/compliance/compliance-manual/glossary#subrecipient), and Health Center Program look-alikes (sections 1861(aa)(4)(B) and 1905(l)(2)(B) of the Social Security Act; (https://bphc.hrsa.gov/compliance/compliance-manual/glossary#look-alike).

The draft Scope Policy Manual proposes new policy and clarifies existing policy in key areas. Through the draft Scope Policy Manual, HRSA updates the Health Center Program scope of project policy to consolidate scope of project-related policy into a single policy document to assist health centers in understanding scope of project, statutory language and the Health Center Program Compliance Manual (https://bphc.hrsa.gov/compliance/compliance-manual).

The draft Scope Policy Manual does not include scope of project process-related instructions. Instructions for documenting and updating scope of project will continue to be available on the Health Center Program Scope of Project web page (https://bphc.hrsa.gov/compliance/scope-project).

HRSA proposes that the final Scope Policy Manual supersede the following previously issued scope of project Policy Information Notices (PINs):

• PIN 2007-09: Service Area Overlap: Policy and Process

• PIN 2008-01: Defining Scope of Project and Policy for Requesting Changes

• PIN 2009-02: Specialty Services and Health Centers' Scope of Project

• PIN 2009-05: Policy for Special Populations-Only Grantees Requesting a Change in Scope to Add a New Target Population

HRSA provides grants to eligible applicants under section 330 of the PHS Act (42 U.S.C. 254b) to support the delivery of preventive and primary care services to the nation's underserved individuals and families. HRSA also designates eligible applicants as Health Center Program look-alikes. Look-alikes do not receive Health Center Program funding but must meet the Health Center Program statutory and regulatory requirements. Nearly 1,400 Health Center Program-funded health centers and more than 100 Health Center Program look-alike organizations operate more than 15,000 service delivery sites that provide care to more than 30.5 million patients in every U.S. state, the District of Columbia, Puerto Rico, the U.S. Virgin Islands, and the Pacific Basin. Note that for the purposes of this document, the term “health center” refers to entities that receive a federal award under section 330 of the PHS Act, as well as subrecipients and organizations designated as look-alikes, unless otherwise stated.

Carole Johnson,
Administrator.

[FR Doc. 2024-28748 Filed 12-6-24; 8:45 am]

BILLING CODE 4165-15-P